ENVIRONMENTAL PROTECTION AGENCY

[FRL-8476-2]

Meeting of the Total Coliform Rule Distribution System Advisory Committee—Notice of Public Meeting

AGENCY: Environmental Protection Agency (EPA).

ACTION: Notice.

SUMMARY: Under Section 10(a)(2) of the Federal Advisory Committee Act, the United States Environmental Protection Agency (EPA) is giving notice of a meeting of the Total Coliform Rule Distribution System Advisory Committee (TCRDSAC). The purpose of this meeting is to discuss the public health information, Safe Drinking Water Act (SDWA) framework, Total Coliform Rule (TCR) implementation and compliance, and issues that may affect finished water quality in distribution systems.

The TCRDSAC advises and makes recommendations to the Agency on revisions to the Total Coliform Rule (TCR), and on what information should be collected, research conducted, and/or risk management strategies evaluated to better inform distribution system contaminant occurrence and associated public health risks.

Topics to be discussed in the meeting include available public health information and how it relates to the TCR; how the TCR relates to other SDWA regulations, such as the Ground Water Rule; TCR implementation and compliance; and information on distribution system issues that may impact water quality.

DATES: The public meeting will be held on Wednesday, October 17, 2007 (8:30 a.m. to 6 p.m., Eastern Daylight Time (EDT)) and Thursday, October 18, 2007 (8 a.m. to 3 p.m. EDT). Attendees should register for the meeting by calling Jason Peller at (202) 965-6387, or by e-mail to jpeller@resolv.org, no later than October 15, 2007.

ADDRESSES: The meeting will be held at RESOLVE, 1255 Twenty-Third St., NW., Suite 275, Washington, DC 20037.

FOR FURTHER INFORMATION CONTACT: For general information, contact Jason Peller of RESOLVE at (202) 965-6387. For technical inquiries, contact Ken Rotert (rotert.kenneth@epa.gov, (202) 564-5280), Standards and Risk Management Division, Office of Ground Water and Drinking Water (MC 4607M), Environmental Protection Agency, 1200 Pennsylvania Ave., NW., Washington, DC 20460; fax number: (202) 564-3767.

SUPPLEMENTARY INFORMATION: The meeting is open to the public. The Committee encourages the public's input and will take public comment starting at 5:30 p.m. on October 17, 2007, for this purpose. It is preferred that only one person present the statement on behalf of a group or organization. To ensure adequate time for public involvement, individuals interested in presenting an oral statement may notify Jini Mohanty, the Designated Federal Officer, by telephone at (202) 564-5269 no later than October 15, 2007. Any person who wishes to file a written statement can do so before or after a Committee meeting. Written statements received by October 15, 2007, will be distributed to all members before any final discussion or vote is completed. Any statements received on October 17, 2007, or after the meeting will become part of the permanent meeting file and will be forwarded to the members for their information.

Special Accommodations

For information on access or services for individuals with disabilities, please contact Jini Mohanty at (202) 564-5269 or by e-mail at mohanty.jini@epa.gov. To request accommodation of a disability, please contact Jini Mohanty, preferably at least 10 days prior to the meeting to give EPA as much time to process your request.

Dated: September 26, 2007.
Cynthia C. Dougherty,
Director, Office of Ground Water and Drinking Water.

[FR Doc. E7-19316 Filed 9-28-07; 8:45 am]

BILLING CODE 6560-50-P